Title 3—

The President

Proclamation 8095 of December 29, 2006

To Eliminate Tariffs on Certain Pharmaceuticals and Chemical Intermediates

By the President of the United States of America

A Proclamation

1. During the Uruguay Round of Multilateral Trade Negotiations (the “Uruguay Round”), a group of major trading countries agreed to reciprocal elimination of tariffs on certain pharmaceuticals and chemical intermediates, and that participants in this agreement would revise periodically the list of products subject to duty-free treatment. On December 13, 1996, at the Ministerial Conference of the World Trade Organization (WTO), the United States and 16 other major trading countries agreed to eliminate tariffs on additional pharmaceuticals and chemical intermediates. On April 1, 1997, the United States implemented this agreement in Proclamation 6982. The second revision to the list of products was negotiated under the auspices of the WTO in 1998. The United States implemented this revision on July 1, 1999, in Proclamation 7207. In 2006, the United States and 30 other WTO members concluded negotiations, under the auspices of the WTO, on a further revision to the list of pharmaceuticals and chemical intermediates to receive duty-free treatment.

2. Section 111(b) of the Uruguay Round Agreements Act (URAA)(19 U.S.C. 3521(b)) authorizes the President under specified circumstances to proclaim the modification of any duty or staged rate reduction of any duty set forth in Schedule XX-United States of America, annexed to the Marrakesh Protocol to the GATT 1994 (Schedule XX) for products that were the subject of reciprocal duty elimination negotiations during the Uruguay Round, if the United States agrees to such action in a multilateral negotiation under the auspices of the WTO. Section 111(b) also authorizes the President to proclaim such modifications as are necessary to correct technical errors in, or make other rectifications to, Schedule XX.

3. On October 3, 2006, consistent with section 115 of the URAA, the United States Trade Representative (USTR) submitted a report to the Committee on Ways and Means of the House of Representatives and the Committee on Finance of the Senate (the “Committees”) that set forth the proposed further revision to the list of products subject to tariff eliminations.

4. Section 604 of the Trade Act, as amended (19 U.S.C. 2483), authorizes the President to embody in the Harmonized Tariff Schedule of the United States (HTS) the substance of the relevant provisions of that Act, and of other acts affecting import treatment, and actions thereunder, including the removal, modification, continuance, or imposition of any rate of duty or other import restriction.

5. Pursuant to section 111(b) of the URAA, I have determined that Schedule XX should be modified to reflect the implementation by the United States of the multilateral agreement on certain pharmaceuticals and chemical intermediates negotiated under the auspices of the WTO. In addition, I have determined that the pharmaceuticals appendix to the HTS should be modified to reflect the duty eliminations provided for in that agreement and to make certain technical corrections in the manner in which Schedule XX identifies particular products in order to ensure that they are accorded the intended duty treatment.

NOW, THEREFORE, I, GEORGE W. BUSH, President of the United States of America, acting under the authority vested in me by the Constitution and the laws of the United States of America, including but not limited to section 111(b) of the URAA and section 604 of the 1974 Act, do proclaim that:

(1) In order to implement the multilateral agreement negotiated under the auspices of the WTO to eliminate tariffs on certain pharmaceutical products and chemical intermediates, and to make technical corrections in the tariff treatment accorded to such products, the HTS is modified as set forth in the Annex to this proclamation.

(2) Such modifications to the HTS shall be effective with respect to articles entered, or withdrawn from warehouse for consumption, on or after the date set forth in the Annex for the respective actions taken.

(3) Any provisions of previous proclamations and Executive Orders that are inconsistent with the actions taken in this proclamation are superseded to the extent of such inconsistency.

IN WITNESS WHEREOF, I have hereunto set my hand this twenty-ninth day of December, in the year of our Lord two thousand six, and of the Independence of the United States of America the two hundred and thirty-first.

Billing code 3195-01-P

[FR Doc. 07-00002

Filed 1-3-07; 11:03 am]

Billing code 3190-01-C